DEPARTMENT OF EDUCATION

[CFDA Number: 84.184H]

Office of Safe and Drug-Free Schools; Grant Competition To Prevent High-Risk Drinking or Violent Behavior Among College Students

ACTION: Correction; Notice correcting the Deadline dates.

SUMMARY: We correct the Deadline dates in the notice published on December 22, 2006 (71 FR 77004).

SUPPLEMENTARY INFORMATION: On December 22, 2006 we published a notice in the Federal Register inviting applications for the Grant Competition to Prevent High-Risk Drinking or Violent Behavior among College Students (71 FR 77004-77007). The Deadline dates in the notice were incorrect. The Deadline for Transmittal of Applications (as published on pages 77004 and 77005) is corrected to February 20, 2007, and the Deadline for Intergovernmental Review (as published on pages 77004 and 77005) is corrected to April 20, 2007.

FOR FURTHER INFORMATION CONTACT: Richard Lucey, Jr., U.S. Department of Education, 400 Maryland Avenue, SW., room 3E335, Washington, DC 20202-6450. Telephone: (202) 205-5471 or by e-mail: richard.lucey@ed.gov.

If you use a telecommunications device for the deaf (TDD), you may call the Federal Relay Service (FRS) at 1-800-877-8339.

Individuals with disabilities may obtain this document in an alternate format (e.g., Braille, large print, audiotape, or computer diskette) on request to the contact person listed in this section.

Electronic Access to This Document: You may view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

You may also view this document in text or PDF at the following site: http://www.ed.gov/programs/dvphighrisk/applicant.html.

Note: The official version of this document is the document published in the Federal Register. Free Internet access to the official edition of the Federal Register and the Code of Federal Regulations is available on GPO Access at: http://www.access.gpo.gov/nara/index.html.

Dated: January 4, 2007.
Deborah A. Price,
Assistant Deputy Secretary for Safe and Drug-Free Schools.

[FR Doc. E7-105 Filed 1-8-07; 8:45 am]

BILLING CODE 4000-01-P